DEPARTMENT OF THE INTERIOR

Fish and Wildlife Service

Togiak National Wildlife Refuge; Information Collection To Be Submitted to the Office of Management and Budget (OMB) for Approval

AGENCY: Fish and Wildlife Service, Interior.

ACTION: Notice, information collection.

The Office of Management and Budget (OMB) regulations at 5 CFR part 1320, which implement provisions of the Paperwork reduction Act of 1995 (Public Law 104-13), require that interested members of the public and affected agencies have an opportunity to comment on information collection and record keeping activities (see 5 CFR 1320.8(d)). We will submit a request to OMB to approve the collection of information for preserving the unwritten knowledge (oral history) of the long-term residents of the southwest Alaska region in the vicinity of the Togiak National Wildlife Refuge. We are requesting a 3-year term of approval of this new information collection activity. Pursuant to our request for OMB approval of this new information collection, we invite comments on (1) whether the collection of information is necessary for the proper performance of our functions, including whether the information will have practical utility; (2) the accuracy of our estimate of burden, including the validity of the methodology and assumptions used, and (3) ways to enhance the quality, utility, and clarity of the information, including through the use of appropriate automated, electronic, mechanical, or other technological collection techniques or other forms of information technology.

The proposed information collection form follows. A copy of the complete draft study proposal is available upon request at no cost. Direct requests to Patricia McClenahan, Office of Subsistence Management, 907/786-3888, extension 3875.

QUESTIONNAIRE/CHECKLIST—SPECIES LIST

Togiak NWR TEK Study Species Check List.

Species Group or Species

Fish

Salmon

King

Sockeye

Chum

Coho

Pink

Char

Dolly Varden

Arctic Char

Lake Trout

Resident Freshwater

Arctic Grayling

Rainbow Trout

Northern Pike

Blackfish

Burbot

Whitefish

Round

Humpback

Sculpin

Stickleback

Marine

Herring

Flat—fishes

Cod

Smelt

Capelin

Marine Mammals

Walrus

Seals

Harbor/Spotted

Ringed

Ribbon

Bearded

Sea Lions

Whales

Belukha

Gray

Land Mammals

Brown Bear

Black Bear

Porcupine

Tundra Hare

Snowshoe Hare

Furbearers

Beavers

Muskrats

Land Otters

Wolverine

Weasels

Minks

Marten

Lynx

Wolves

Coyote

Red Fox

Parka Squirrels

Ungulates

Moose

Caribou

Reindeer

Misc:

Sheep

Goats

Sheep

Birds

Resident

Ptarmigan

Grouse

Waterfowl

Geese

White fronted

Canada

Brant

Emperor

Snow

Seabirds

Raptors

Others

Cormorants

Magpies

Ravens

Vegetation

Berries

Salmon

Huckle

Blue

Black

Grasses

Firewood

Vegetation types and changes

spruce

cotton woods

alder

willow

Togiak NWR TEK Interview Questionnaire (checklist)

For each species a respondent has knowledge of that they are willing to share this will serve as a guideline a checklist for initial and follow up interviews.

1 a. Describe your annual seasonal activities. (From the life stages interview complete a general description of their seasonal subsistence activities—what species they rely on most and when they target them).

b. How has this changed over time?

2 a. Where does [species] occur ? (mapping exercise)

b. Special concentrations? (staging, nesting, feeding, haul out, spawning?)

c. Have you observed changes over time?

d. Are there indicators/predictors that involve this species? (Either this species as an indicator or other things that provide predictions about this species)

3 a. Where and when does harvest occur? (mapping/access/timing)

b. Has this changed over time?

4 a. What methods are used for harvest and processing this species?

b. Has this changed over time?

5 a. Have you observed any changes in this animals behavior or abundance over time?

b. Have you observed any changes in response to human harvest methods changes?

c. Do you have solutions/recommendations for changes to management strategies or regulations to improve or address increases/decreases observed in this species?

6 a. With whom do you share your subsistence resources?

b. How has this changed over time?

7 a. How did you pass along your subsistence knowledge & skills to your children/grandchildren or others in the community?

8 a. When did you first recall that non-residents came to this area to access these resources?

9 a. What environmental, physical or climatological changes have you observed?

10 a. What species occur now that didn't before?

b. What species used to occur (be plentiful), but are no longer?

DATES: Comments must be submitted on or before November 26, 2002.

ADDRESSES: Regional Anthropologist, Bristol Bay Region; Coastal Regions Division; U.S. Fish and Wildlife Service Office of Subsistence Management; 3601 C Street, Suite 1030; Anchorage, AK 99503. Service Information Collection Clearance Officer, U.S. Fish and Wildlife Service, MS 224-ARLSQ, 1849 C Street, NW, Washington, DC 20240.

FOR FURTHER INFORMATION CONTACT: Patricia McClenahan, Office of Subsistence Management, 907/786-3888 x. 3875, or Anissa Craghead, Service Information Collection Clearance Officer 703/358-2287.

Title: Oral History and Traditional Knowledge Gathering within Togiak National Wildlife Refuge.

Aaron Archibeque,
Refuge Manager, Togiak National Wildlife Refuge.

[FR Doc. 02-24587 Filed 9-26-02; 8:45 am]

BILLING CODE 4310-55-P